DEPARTMENT OF COMMERCE

International Trade Administration

[C-570-946]

Prestressed Concrete Steel Wire Strand From the People's Republic of China: Notice of Postponement of Preliminary Determination in the Countervailing Duty Investigation

AGENCY: Import Administration, International Trade Administration, Department of Commerce.

DATES: Effective Date: August 12, 2009.

FOR FURTHER INFORMATION CONTACT: Robert Copyak, AD/CVD Operations, Office 3, Import Administration, International Trade Administration, U.S. Department of Commerce, 14th Street and Constitution Avenue, NW., Washington, DC 20230; telephone 202-482-2209.

SUPPLEMENTARY INFORMATION:

Background

On June 23, 2009, the Department of Commerce (the Department) initiated the countervailing duty investigation of prestressed concrete steel wire strand from the People's Republic of China. See Prestressed Concrete Steel Wire Strand From the People's Republic of China: Initiation of Countervailing Duty Investigation 74 FR 29670 (June 23, 2009).

Postponement of Due Date for Preliminary Determination

Section 703(b)(1) of the Tariff Act of 1930, as amended (the Act), requires the Department to issue the preliminary determination in a countervailing duty investigation within 65 days after the date on which the Department initiated the investigation. However, the Department may postpone making the preliminary determination until no later than 130 days after the date on which the administering authority initiated the investigation if, pursuant to section 703(c)(1)(B) of the Act, the Department concludes that the parties concerned in the investigation are cooperating and determines that the investigation is extraordinarily complicated and that “additional time is necessary to make the preliminary determination.”

The Department is currently investigating a number of complex alleged subsidy programs, including various loan programs, grants, income tax incentives, and the provision of goods and services for less than adequate remuneration. Due to the number and complexity of the alleged subsidy programs being investigated, we find that this investigation is extraordinarily complicated and that additional time is necessary to make the preliminary determination. Therefore, in accordance with section 703(c)(1)(B) of the Act, we are fully extending the due date for the preliminary determination to no later than 130 days after the day on which the investigation was initiated. The deadline for completion of the preliminary determination is now October 24, 2009.

This notice is issued and published pursuant to section 703(c)(2) of the Act.

Dated: August 5, 2009.
Ronald K. Lorentzen,
Acting Assistant Secretary for Import Administration.

[FR Doc. E9-19332 Filed 8-11-09; 8:45 am]

BILLING CODE 3510-DS-P